DEPARTMENT OF HEALTH AND HUMAN SERVICES

Centers for Disease Control and Prevention

Mine Safety and Health Research Advisory Committee: Meeting

In accordance with section 10(a)(2) of the Federal Advisory Committee Act (Pub. L. 92-463), the Centers for Disease Control and Prevention (CDC) announces the following conference call committee meeting.

Name: Mine Safety and Health Research Advisory Committee (MSHRAC).

Time and Date: 11 a.m.-2 p.m., May 22, 2002.

Place: Teleconference call will originate at the National Institute for Occupational Safety and Health, CDC, Atlanta, Georgia. Please see “Supplementary Information” for details on accessing the teleconference.

Status: Open to the public, teleconference access limited only by ports available.

Purpose: This committee is charged with providing advice to the Secretary, Health and Human Services; the Director, CDC; and the Director, NIOSH, on priorities in mine safety and health research, including grants and contracts for such research, 30 U.S.C. 812(b)(2), Section 102(b)(2).

Matters to be Discussed: Agenda for this meeting will focus on NIOSH mining research update, and metal and non-metal mining stakeholders proposal and discussion.

Agenda items are subject to change as priorities dictate.

SUPPLEMENTARY INFORMATION: This conference call is scheduled for 11 a.m. Eastern Time. To access the teleconference, you must dial 1-800-713-1971. To be automatically connected to the call, you will need to provide the operator with the conference code “727816.”

CONTACT PERSON FOR MORE INFORMATION: Dr. Lewis Wade, Executive Secretary, MSHRAC, NIOSH, CDC, HHH Building, Room 715H, M/S P12, Washington, DC 20201-0004, telephone 202-401-2192.

The Director, Management Analysis and Services Office, has been delegated the authority to sign Federal Register notices pertaining to announcements of meetings and other committee management activities for both the Centers for Disease Control and Prevention and the Agency for Toxic Substances and Disease Registry.

Dated: April 8, 2002.
Alvin Hall,
Acting Director, Management Analysis and Services Office, Centers for Disease Control and Prevention.

[FR Doc. 02-9245 Filed 4-16-02; 8:45 am]

BILLING CODE 4163-19-P